DEPARTMENT OF ENERGY

Federal Energy Regulatory Commission

[Docket No. OR08-15-000]

ExxonMobil Oil Corporation and BP West Coast Products LLC, Complainants, v. SFPP, L.P., Respondent; Notice of Complaint

August 21, 2008.

Take notice that on August 20, 2008, pursuant to sections 206 and 212 of the Rules of Practice and Procedure, 18 CFR 385.206 and 385.212 and sections 205 and 306 of the Federal Power Act, 16 U.S.C. 824(e) and 825(e), ExxonMobil Oil Corporation and BP West Coast Products LLC (Complainants) filed a complaint against SFPP, L.P. (Respondent) challenging Respondent's 2008 index rate increases as unjust and unreasonable under section 1(5) of the Interstate Commerce Act. Complainants request that the Commission review and investigate SFPP's index rate increases; resolve the legal issues, and, if necessary, set the proceeding for an evidentiary hearing; require the payment of refunds and reparations for the index rate increase; and award such other relief as is necessary and appropriate under the Interstate Commerce Act.

The Complainant states that a copy of the complaint has been served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 9, 2008.

Kimberly D. Bose,
Secretary.

[FR Doc. E8-19931 Filed 8-27-08; 8:45 am]

BILLING CODE 6717-01-P